FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Reporting, Recordkeeping, and Disclosure Requirements Associated with the Consumer Financial Protection Bureau's (CFPB) Home Mortgage Disclosure Act (HMDA) Loan/Application Register Required by Regulation C (FR HMDA LAR; OMB No. 7100-0247).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR HMDA LAR.

Final Approval Under OMB Delegated Authority of the Extension for Three Years, Without Revision, of the Following Information Collection

Collection title: Reporting, Recordkeeping, and Disclosure Requirements Associated with the CFPB's Home Mortgage Disclosure Act Loan/Application Register Required by Regulation C.

Collection identifier: FR HMDA LAR.

OMB control number: 7100-0247.

General description of collection: The HMDA was enacted in 1975 and is implemented by Regulation C. Generally, the HMDA requires certain depository and non-depository institutions that make certain mortgage loans to collect, report, and disclose data about originations and purchases of mortgage loans, as well as loan applications that do not result in originations (for example, applications that are denied or withdrawn).

The FR HMDA LAR is the Board's information collection associated with the CFPB's Regulation C. The FR HMDA LAR is used to (1) help determine whether financial institutions are serving the housing needs of their communities, (2) assist public officials in distributing public-sector investments so as to attract private investment to areas where it is needed, and (3) assist in identifying possible discriminatory lending patterns and enforcing anti-discrimination statutes.

Frequency: Quarterly and annually.

Respondents: Except those that are supervised by the CFPB: state member banks, their subsidiaries, subsidiaries of bank holding companies, subsidiaries of savings and loan holding companies, U.S. branches and agencies of foreign banks (other than federal branches, federal agencies, and insured state branches of foreign banks), commercial lending companies owned or controlled by foreign banks, and organizations operating under section 25 or 25A of the Federal Reserve Act (12 U.S.C. 601-604a; 611-631).

Total estimated number of respondents: 654.

Total estimated annual burden hours: 960,235.

Current actions: On June 7, 2024, the Board published a notice in the Federal Register (89 FR 48636) requesting public comment for 60 days on the extension, without revision, of the FR HMDA LAR. The comment period for this notice expired on August 6, 2024. The Board did not receive any comments.

Board of Governors of the Federal Reserve System, October 23, 2024.
Benjamin W. McDonough,
Deputy Secretary and Ombuds of the Board.

[FR Doc. 2024-25040 Filed 10-28-24; 8:45 am]

BILLING CODE 6210-01-P